DEPARTMENT OF HEALTH AND HUMAN SERVICES

Administration for Children and Families

Proposed Information Collection Activity; Comment Request

Proposed Project

Title: Head Start/Early Head Start Emergency Preparedness Survey.

OMB No.: New Collection.

Description: The Office of Head Start, within the Administration for Children and Families (ACF) of the Department of Health and Human Services (HHS), is planning a survey to collect data on Head Start and Early Head Start programs' emergency preparedness policies and procedures. Section 649(m) (2) of Public Law 110-134, “The Improving Head Start for School Readiness Act of 2007” states, “The Secretary shall evaluate the Federal, State, and local preparedness of Head Start programs, including Early Head Start programs to respond appropriately in the event of a large-scale emergency, * * *.” The Head Start/Early Head Start Emergency Preparedness Survey was created in response to this request and will gather uniform data about current emergency preparedness policies and procedures for responding to large-scale emergencies of Head Start and Early Head Start programs.

Respondents: Head Start and Early Head Start grantees.

Annual Burden Estimates
Instrument | Annual number of respondents | Number of responses per respondent | Average burden hours per response | Total annual burden hours
Head Start Emergency Preparedness Survey | 1,604 | 1 | 0.5 | 802

Estimated Total Annual Burden Hours: 802.

In compliance with the requirements of Sect ion 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade, SW., Washington, DC 20447, Attn: OPRE Reports Clearance Officer. E-mail address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: March 5, 2009.
Brendan C. Kelly,
Reports Clearance Officer.

[FR Doc. E9-5166 Filed 3-12-09; 8:45 am]

BILLING CODE 4184-01-M